DEPARTMENT OF AGRICULTURE

Animal and Plant Health Inspection Service

9 CFR Parts 1, 2, and 3

[Docket No. APHIS-2017-0062]

RIN 0579-AE35

Animal Welfare; Amendments to Licensing Provisions and to Requirements for Dogs

AGENCY: Animal and Plant Health Inspection Service, USDA.

ACTION: Proposed rule; reopening of comment period.

SUMMARY: We are reopening the comment period for our proposed rule that would amend the licensing requirements under the Animal Welfare Act regulations to promote compliance, reduce licensing fees, and strengthen existing safeguards that prevent individuals and businesses who have a history of noncompliance from obtaining a license or working with regulated animals. This action will allow interested persons additional time to prepare and submit comments.

DATES: The comment period for the proposed rule published on March 22, 2019, (84 FR 10721-10735) is reopened. We will consider all comments that we receive on or before June 5, 2019.

ADDRESSES: You may submit comments by either of the following methods:

• Federal eRulemaking Portal: Go to http://www.regulations.gov/#!docketDetail;D=APHIS-2017-0062.

• Postal Mail/Commercial Delivery: Send your comment to Docket No. APHIS-2017-0062, Regulatory Analysis and Development, PPD, APHIS, Station 3A-03.8, 4700 River Road, Unit 118, Riverdale, MD 20737-1238.

Supporting documents and any comments we receive on this docket may be viewed at http://www.regulations.gov/#!docketDetail;D=APHIS-2017-0062 or in our reading room, which is located in Room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Ms. Christine Jones, Chief of Staff, Animal Care, APHIS, 4700 River Road Unit 84, Riverdale, MD 20737; (301) 851-3751.

SUPPLEMENTARY INFORMATION: On March 22, 2019, we published in the Federal Register (84 FR 10721-10735, Docket No. APHIS-2017-0062) a proposal to amend the licensing requirements under the Animal Welfare Act regulations to promote compliance, reduce licensing fees, and strengthen existing safeguards that prevent individuals and businesses who have a history of noncompliance from obtaining a license or working with regulated animals.

Comments on the proposed rule were required to be received on or before May 21, 2019. We are reopening the comment period on Docket No. APHIS-2017-0062 for an additional 15 days, to June 5, 2019. This action will allow interested persons additional time to prepare and submit comments. We will also consider all comments received between May 21, 2019, and the date of this notice.

Authority: 7 U.S.C. 2131-2159; 7 CFR 2.22, 2.80, and 371.7.

Done in Washington, DC, this 21st day of May 2019.
Kevin Shea,
Administrator, Animal and Plant Health Inspection Service.

[FR Doc. 2019-11031 Filed 5-24-19; 8:45 am]

BILLING CODE 3410-34-P